DEPARTMENT OF HOUSING AND URBAN DEVELOPMENT

[Docket No. FR-4674-N-01]

Notice of Funding Availability: Tribal Colleges and Universities Program; Fiscal Year 2001

AGENCY: Office of the Secretary, HUD.

ACTION: Notice of Funding Availability (NOFA).

SUMMARY: Purpose of the Program. To assist Tribal colleges and universities to build, expand, renovate, and equip their own facilities.

Available Funds. Approximately $3 million.

Eligible Applicants: Only tribal colleges and universities that meet the definition of a TCU established in Title V of the 1998 Amendments to the Higher Education Act of 1965 (Pub. L. 105-244; enacted October 7, 1998)

Application Deadline. August 3, 2001.

Match. None.

Paperwork Reduction Act Statement

The information collection requirements contained in this NOFA have been approved by the Office of Management and Budget, under the Paperwork Reduction Act of 1995 (44 U.S.C. 3501-3520) and assigned OMB Control Number 2528-0215. An agency may not conduct or sponsor, and a person is not required to respond to, a collection of information unless the collection displays a valid control number.

I. Application Due Date, Application Kits, Further Information, and Technical Assistance

Application Due Date. Your completed application is due on or before 12 midnight, Eastern time, on August 3, 2001 at HUD Headquarters.

Applications Submission Procedures. Mailed Applications. Your application will be considered timely filed if your application is postmarked on or before 12:00 midnight on the application due date and received by the designated HUD address on or within ten (10) days of the application due date.

Applications Sent by Overnight/Express Mail Delivery. If your application is sent by overnight delivery or express mail, your application will be timely filed if it is received before or on the application due date, or when you submit documentary evidence that your application was placed in transit with the overnight delivery/express mail service by no later than the application due date.

Hand Carried Applications. If your application is required to be submitted to HUD Headquarters, and you arrange for the application to be hand carried, hand carried applications delivered before and on the application due date must be brought to the specified location at HUD Headquarters and room number between the hours of 8:45 am to 5:15 pm, Eastern time. Applications hand carried on the application due date will be accepted in the South Lobby of the HUD Headquarters Building at the address below from 5:15 pm until 12 midnight, Eastern time. This deadline date is firm. Please make appropriate arrangements to arrive at the HUD Headquarters Building before 12 midnight, Eastern time, on the application due date.

Address for Submitting Applications. Your completed application consists of an original signed application and two copies of the application. Submit your completed application to the following address: Processing and Control Branch, Office of Community Planning and Development, Department of Housing and Urban Development, 451 Seventh Street, SW, Room 7251, Washington, DC, 20410. When submitting your application, please refer to TCUP and include your name, mailing address (including zip code) and telephone number (including area code).

HUD will accept only one application per TCU campus for this program. If your institution has multiple campuses, each one may submit a separate application. If your institution submits more than one application, per campus, HUD will ask you to identify which application you want evaluated. Only one application will be evaluated. If you do not respond within the stipulated cure period (see Section VI below), all of your applications will be disqualified. You should take this policy into account and take steps to ensure that multiple applications are not submitted.

For Application Kits. For an application kit and any supplemental material, you should call the SuperNOFA Information Center at 1-800-HUD-8929. If you have a hearing or speech impairment, please call the Center's TTY number at 1-800-HUD-2209. When requesting an application kit, you should refer to TCUP and provide your name and address (including zip code) and telephone number (including area code). You may also access the application on the Internet through the HUD web site at www.hud.gov.

For Further Information and Technical Assistance. You may contact Jane Karadbil of HUD's Office of University Partnerships at 202-708-1537, extension 5918 or Sherone Ivey of the Office of Native American Programs at 202-401-7914, extension 4200. If you have a hearing or speech impairment, you may access this number via TTY by calling the Federal Information Relay Service toll-free at 1-800-877-8339. You may also write to Ms. Karadbil via email at Jane_R._Karadbil@hud.gov and Ms. Ivey at Sherone_E._Ivey@hud.gov.

Satellite Broadcast. HUD will hold an information broadcast via satellite for potential applicants to learn more about the program and preparation of the application. For more information about the date and time of the broadcast, you should consult the HUD web site at http://www.hud.gov.

II. Amount Allocated

Approximately $3 million in FY 2001 funds is being made available under this NOFA for TCUP.

The maximum grant period is 24 months. The performance period will commence on the effective date of the grant agreement.

The maximum amount to be requested and awarded is $400,000. Since the Statement of Work and other facets of the technical review are assessed in the context of the proposed budget and grant request, and in the interest of fairness to all applicants, if you submit an application requesting more than $400,000 in HUD funds, the application will be ruled ineligible. HUD reserves the right to make awards for less than the maximum amount or less than the amount requested in your application.

III. Program Description; Eligible Applicants; Eligible Activities

(A) Program Description. The purpose of TCUP is to assist TCUs to build, expand, renovate, and equip their own facilities, especially those facilities that are used by or available to the larger community.

(B) Eligible Applicants. Only if your institution is a nonprofit institution of higher education and meets the statutory definition of a TCU in Title V of the 1998 Amendments to the Higher Education Act of 1965 (P.L. 105-244) are you eligible to apply. If you are one of several campuses of the same institution, you may apply separately from the other campuses as long as your campus has a separate administrative structure and budget from the other campuses.

(C) Eligible Activities. Each activity you propose for funding must meet one of the following national objectives:

(a) Benefit low- and moderate-income persons;

(b) Aid in the prevention or elimination of slums or blight; or

(c) Meet other community development needs having a particular urgency and other financial resources are not available to meet such needs.

You may not use any of your grant for public services, as defined in 24 CFR 570.201(e). You may use no more than 20 percent of your grant for planning and administrative activities, as defined in 24 CFR 570.206. Grant funds can only be used to build, expand, renovate, and equip facilities owned by your institution. Long-term leases of property (i.e., at least five years in duration) are considered an acceptable form of ownership under this program. Equipment can include, but is not limited to, computers, furniture, books, etc.

While community-wide use of your facility is permissible, the facility must be predominantly for the use of your institution (i.e., it must be used by your institution at least 51% of the time). The facility to be assisted must be for some activity or activities that your institution normally provides, as opposed to activities undertaken by other entities using your facility. Buildings in which your institution undertakes activities are eligible for assistance even if they do not serve those enrolled in your institution. A few examples are provided to show eligible uses of the grant. If your institution operates a small business assistance center, renovation of the facility in which the center is located would be an eligible grant activity, because the center is part of your institution even though it is not serving enrolled students. Conversely, if your institution rents space to another entity that operates a small business assistance center, renovation of the facility in which that center is located would not be an eligible grant activity, unless the space is used by your institution at least 51% of the time. As another example, you could build a new gymnasium solely for your students or propose to offer some physical education classes or other activities in the evening to the larger community. But if you proposed to build a new gymnasium, with the majority of the activities for non-students, or with the activities being primarily run by an outside entity, that would be an ineligible activity.

While you may choose to apply for a grant for any kind of college or university facility, facilities that will be used by or available to the larger community (as long as the use is still predominantly for your institution, as noted above) are eligible to receive extra points where the larger community has participated in the planning and implementation of this project. For example, in order to get these points, you could request a grant to rehabilitate a student union building that would also serve as a community meeting facility, with the community helping to plan the renovations and also helping to operate additional activities. As another example, you could expand a facility currently serving as a small business assistance center where current and potential small business owners helped design the expansion. As a third example, you could equip a computer lab where the larger community helped you identify the equipment needs and will also help in implementing workshops, etc. If you are proposing work on a facility that is solely for your institution (e.g., a dormitory or administration building), you can only get these points if you involve the community in the planning and implementation of the project. See Rating Factor 3 for more details. You should call Jane Karadbil or Sherone Ivey at the above numbers if you have any questions about the eligibility of any activities you may propose.

(D) Other Requirements. (1) Leveraging. Although a match is not required to qualify for funding, if you claim leveraging from any source, including your own institution, you must provide letters or other documentation evidencing the extent and firmness of commitments of leveraging from other Federal (e.g., Americorps Programs), State, local, and/or private sources (including the applicant's own resources). These letters or documents must be dated no earlier than the date of this published NOFA. Potential sources of leveraging assistance include your own institution (for both direct and indirect costs), tribes, the Indian housing authorities, financial institutions and private businesses, foundations, and faith-based institutions.

(2) Federal Requirements. If awarded a grant, you must comply with all Federal requirements, including the following:

(a) If your TCU is a part or instrumentality of a tribe, you must comply with the Indian Civil Rights Act (25 U.S.C. 1301 et seq.), but if your TCU is not a part or instrumentality of a tribe, you must comply with the Fair Housing Act (42 U.S.C. 3601-19) and implementing regulations at 24 CFR part 100 et seq. , Title VI of the Civil Rights Act of 1964 (42 U.S.C. 2000d-2000d-4) (Nondiscrimination in Federally Assisted Programs) and implementing regulations at 24 CFR part 1, and Section 109 of the Housing and Community Development Act of 1974, as amended, with respect to nondiscrimination on the basis of age, sex, religion, or disability and implementing regulations at 24 CFR part 6;

(b) The Age Discrimination Act of 1975 (42 U.S.C. 6101-6107) and implementing regulations at 24 CFR part 146, prohibiting discrimination on the basis of age;

(c) Section 504 of the Rehabilitation Act of 1973 (29 U.S.C. 794) and implementing regulations at 24 CFR part 8, prohibiting discrimination against handicapped individuals;

(d) Section 3 of the Housing and Urban Development Act of 1968 (12 U.S.C. 1701u) and implementing regulations at 24 CFR part 135, requiring that economic opportunities generated by certain HUD financial assistance shall, to the greatest extent feasible, be given to low- and very low-income persons and to businesses that provide economic opportunities for these persons;

(e) The disclosure requirements and prohibitions of 31 U.S.C. 1352 and implementing regulations at 24 CFR part 87;

(f) The requirements for funding competitions established by the Department of Housing and Urban Development Reform Act of 1989 (42 U.S.C. 3531 et seq.).

(g) Nondiscrimination provisions of Section 109 and Labor standards of section 110 of the Housing and Community Development Act of 1974 (HCDA 1974)(42 U.S.C. 5301 et seq.), referenced at 24 CFR 570.602 and 570.603, respectively. However, in accordance with HCDA 1974 section 107(e)(2), the Secretary waives the provisions of HCDA 1974 section 109 and 110 with respect to this program for grants to a TCU that is a part of a tribe, i.e., a TCU that is legally a department or other part of the tribal government, but not a TCU that is established under tribal law as an entity separate from the tribal government. If your TCU is not a part of a tribe, the nondiscrimination provisions and labor standards of HCDA section 109 and 110 apply to activities under the grant to your TCU.

(4) OMB Circulars. Your grant will be governed by the provisions of 24 CFR part 84 (Grants and Agreements with Institutions of Higher Education, Hospitals and other Nonprofit Organizations), A-21 (Cost Principles for Education Institutions), and A-133 (Audits of States, Local Governments, and Non-Profit Organizations). The application kit contains a detailed explanation of what these costs are. You can access the OMB circulars at the White House website at http://www.whitehouse.gov/OMB/circulars.

IV. Application Selection Process

HUD will conduct two types of review: a threshold review to determine applicant eligibility; and a technical review to rate the application based on the rating factors in this section.

(A) Threshold Factors for Funding Consideration. Under this threshold review, your application can only be rated if it is in compliance with the requirements of this NOFA and the following additional standards are met:

(1) You must be an eligible TCU;

(2) Your application requests a Federal grant of $400,000 or less over the two-year grant period;

(3) There is only one application from your institution or a campus of your institution;

(4) At least one of the activities in your application is eligible.

In addition you must meet the following Civil Rights threshold requirements.

If you, the applicant, (1) have been charged with a systemic violation of the Fair Housing Act by the Secretary alleging ongoing discrimination;

(2) Are a defendant in a Fair Housing Act lawsuit by the Department of Justice alleging an ongoing pattern or practice of discrimination; or

(3) Have received a letter of noncompliance findings under Title VI, Section 504 or Section 109 , HUD will not rate or rank your application under this NOFA if the charge, lawsuit, or letter of findings has not been resolved to the satisfaction of the Department before the application deadline stated in this NOFA. HUD's decision regarding whether a charge, lawsuit, or letter of findings has been satisfactorily resolved will be based upon whether appropriate actions have been taken to address allegations of ongoing discrimination in the policies or practices involved in the charge, lawsuit, or letter of findings.

(B) Factors Used to Evaluate and Rate Applications. The factors for rating and ranking applicants, and maximum points for each factor, are provided below. The maximum number of points for this program is 100. HUD has five standard factors and several subfactors that it uses for evaluating almost all of its programs. However, because of tribal sovereignty issues and because this is the first year of the Tribal Colleges and Universities Program, not all of these factors and subfactors are being used. If this program is funded again next year, HUD will determine the extent to which these standard factors and sub-factors will be applied to this program.

Rating Factor 1: Capacity of the Applicant and Relevant Organizational Experience (20 points)

This factor addresses the extent to which you have the organizational resources necessary to successfully implement the proposed activities in a timely manner. In rating this factor, HUD will consider the extent to which your application demonstrates the knowledge and experience of the overall project director and staff, including the day-to-day program manager, consultants, and contractors in planning and managing the kinds of programs for which funding is being requested. More points will be awarded for this factor where the experience belongs to members of the TCU staff than where it belongs to consultants, contractors, and other staff outside your institution. In addition, more points will be awarded where the experience belongs to people who will actually work on your proposed project. Experience will be judged in terms of recent, relevant, and successful experience of your staff to undertake activities in:

(a) Developing and equipping facilities for your institution; and

(b) Working with your community on the planning and implementation of projects.

Rating Factor 2: Need/Extent of the Problem (10 points)

This factor addresses the extent to which there is a need for funding the proposed program activities and an indication of the importance of meeting this need. In responding to this factor, you will be evaluated on the extent to which you document the level of need for the proposed activities and the importance of meeting the need. You should use statistics and analyses contained in one or more data sources that are sound and reliable. To the extent possible, the data you use should be specific to the area where the proposed activities will be carried out.

Rating Factor 3: Soundness of Approach (60 points)

This factor addresses the quality and cost-effectiveness of your proposed work plan and the commitment of your institution to sustain the proposed activities.

(1) Quality of the Work Plan (50 Points)

(a) Specific services and/or activities (15 Points). Specifically, HUD will consider the extent to which your proposed activities will:

(i) Meet an identified important need; and

(ii) Relate to and not duplicate other activities in the target area.

(b) Community Involvement (10 points) HUD will consider the extent to which you have involved the community in all stages of the proposed project.

(c) Work Plan Impact (15 Points). HUD will consider the feasibility of success of your program, the measurable objectives, and how timely your products will be delivered. Specifically, HUD will examine the extent to which:

(i) The project you propose can be completed within the two year grant period; and

(ii) The objectives are measurable (e.g., the number of classrooms added, the number of additional clients that can be helped in an expanded small business assistance center), result in measurable improvement to the community (e.g., fifty more people receiving computer literacy training, twenty more small businesses started, etc.), and how well you demonstrate that these objectives will be achieved by your proposed management plan and team and will result directly from your activities.

(d) Involvement of the Faculty and Students (10 points). The extent to which your application proposes to use students and faculty, as part of their coursework, for project activities. HUD's goal is to encourage students and faculty to be able to use this grant to enhance their education experience and assist their community at the same time.

(2) Institutionalization of Project Activities (10 points). The extent to which your project will result in the kinds of proposed activities being sustained by becoming part of the mission of your institution. In reviewing this subfactor, HUD will consider the extent to which program activities relate to your institution's mission, benefit students because they are part of a service learning program at your institution, and are reflected in the curriculum. HUD will look at your monetary and non-monetary commitments to faculty and staff continuing work in the target area or other similar areas and to your longer term commitment (five years after the start of the grant) of hard dollars to similar work.

Rating Factor 4: Leveraging Resources (10 Points)

This factor addresses your ability to secure community resources, which can be combined with HUD program funds to achieve program objectives.

In evaluating this factor, HUD will consider the extent to which you have established partnerships with other entities to secure additional resources to increase the effectiveness of the proposed activities. Resources may include funding or in-kind contributions, such as services or equipment. Resources may be provided by governmental entities, e.g., the Tribe, the Federal government (BIA, HHS, Education), etc., public or private nonprofit organizations, for-profit private organizations, or other entities. You may also establish partnerships with other program funding recipients to coordinate the use of resources in the target area.

You may count overhead and other institutional costs (e.g., salaries) that are waived as leveraging. However, higher points will be awarded if you secure leveraging resources from sources outside your institution.

You must provide letters or other documentation showing the extent and firmness of commitments of leveraged funds (including your own resources) in order for these resources to count in determining points under this factor. Commitment letters must state a dollar amount in order to earn points for this factor. If your application does not include evidence of leveraging, it will receive zero (0) points for this Factor.

(C) Selections. In order to be funded, you must receive a minimum score of 70 points. HUD will fund applications in rank order, until it has awarded all available funds. If two or more applications have the same number of points, the application with the most points for Factor 3, Soundness of Approach, shall be selected. If there is still a tie, the application with the most points for Factor 1, Capacity, shall be selected.

After all application selections have been made, HUD may require that you participate in negotiations to determine the specific terms of the Statement of Work and the grant budget. In cases where HUD cannot successfully complete negotiations, or you fail to provide HUD with requested information, an award will not be made. In such instances, HUD may elect to offer an award to the next highest ranking applicant, and proceed with negotiations with that applicant.

HUD will not fund specific proposed activities that do not meet one of the national objectives referenced in Section IIIC above. In addition, HUD reserves the right to fund less than the full amount requested in your application if any of your proposed activities is not eligible for funding under the statute creating this program.

V. Application Submission Requirements

You should include an original and two copies of the items listed below. In order to be able to recycle paper, please do not submit applications in bound form. Binder clips or loose leaf binders are acceptable. Also, please do not use colored paper. Please note the page limits for some of the items listed below and do not exceed them.

Your application must contain the items listed in this section. These items include the standard forms, certifications, and assurances found in Appendix A of this NOFA. The remaining application items that are forms (i.e., excluding such items as narratives), referred to as the “non-standard forms,” can be found as Appendix B of this NOFA. The items are as follows:

(A) SF-424, Application for Federal Assistance.

(B) HUD-424, Federal Assistance Funding Matrix.

(C) Application Checklist.

(D) Transmittal Letter, signed by the Chief Executive Officer of your institution or his or her designee. If someone else in your institution signs this letter, your application must include an official designation of signing authority to that person.

(E) Abstract/Executive Summary (one page limit) describing the goals and activities of the project.

(F) Narrative Statement Addressing the Factors for Award. (50 page limit, including tables, and maps, but not including any letters of commitment and budget forms)

(1) The Statement of Work incorporates all activities to be funded in your application and details how your proposed work will be accomplished. (Please note that although submitting pages in excess of the page limit will not disqualify your application, HUD will not consider the information on any excess pages, which may result in a lower score or failure to meet a threshold.) For each proposed activity, your Statement of Work must:

(a) Present a step-by-step breakdown of the major activities for which you seek funding (e.g., rehabilitation of a business development center, construction of new classrooms), identify the primary persons (as described in addressing Rating Factor 1) involved in carrying out the activity and accountable for the deliverables, and delineate the major tasks involved in carrying it out. You should also describe how each activity meets one of the national objectives referenced in Section IIIC above.

(b) Indicate the sequence in which tasks are to be performed, noting areas of work that must be performed simultaneously. The sequence, duration, and the products to be delivered should be presented in six month intervals, up to 24 months.

(c) Identify the specific numbers of quantifiable intermediate and end products and objectives (e.g., the number of classrooms added, the number of additional clients that can be helped in an expanded small business assistance center, etc.) you aim to deliver by the end of the grant period as a result of the work performed.

(d) Provide a description of how any proposed new construction or renovation of existing facilities will comply with the accessibility requirements of Section 504 of the Rehabilitation Act of 1973 (24 CFR part 8.21).

(2) The budget presentation should be consistent with the Statement of Work and include:

(a) A budget by activity, using Form HUD-30006 included in the application kit and Appendix B of this NOFA. This form separates the Federal and non-Federal costs of each program activity. Particular attention should be paid to accurately estimating costs; determining the necessity for and reasonableness of costs; and correctly computing all budget items and totals.

(b) A narrative statement of how you arrived at your costs, for any line item over $5,000. Indirect costs must be substantiated and the rate must have been approved by the cognizant Federal agency. If you are proposing to undertake rehabilitation of residential, commercial, or industrial structures or acquisition, construction, or installation of public facilities and improvements, you must submit reasonable costs supplied by a qualified entity other than your institution (e.g., an architect, engineer, construction firm, etc.).

(3) Your narrative statement addressing the factors for award should address each of the four factors for award. (Please note that although submitting pages in excess of the page limit will not disqualify your application, HUD will not consider the information on any excess pages, which may result in a lower score or failure to meet a threshold.)

In addressing Factor 4, for each leveraging source, cash or in-kind, you must submit a letter, dated no earlier than the date of this NOFA, from the provider on the provider's letterhead that addresses the following:

• The dollar amount or dollar value of the in-kind goods and/or services committed. For each leveraging source, the dollar amount in the commitment letter must be consistent with the dollar amount you indicated in the Budget;

• How the leveraging amount is to be used;

• The date the leveraging amount will be made available;

• Any terms and conditions affecting the commitment, other than receipt of a HUD TCUP Grant; and

• The signature of the appropriate executive officer authorized to commit the funds and/or goods and/or services. (See the application kit and Appendix B for a sample commitment letter.)

(G) Certifications.

(1) SF-424B, Assurances for Non-Construction Programs or SF-424D, Assurances-Construction Programs, depending on the activities you propose to undertake.

(2) HUD-50071, Certification of Payments to Influence Certain Federal Transactions;

(3) SF-LLL, Disclosure of Lobbying Activities (if applicable);

(4) HUD-2880, Applicant/Recipient Disclosure/Update Form;

(5) HUD-50070, Certification of Drug-Free Workplace;

(6) HUD-2992, Certification Regarding Debarment and Suspension.

(H) Acknowledgment of Receipt of Applications (HUD-2993). If you wish to confirm that HUD received your application, please complete this form. This form is optional.

(I) Client Comment and Suggestions (HUD-2994). If you wish to offer comments on the TCUP NOFA, please complete this form. This form is optional.

You may not submit appendices or general support letters or resumes. If you submit letters of leveraging commitment, they must be included in your response to Factor 4. If you submit other documentation, it must be included with the pertinent factor responses (taking note of the page limit).

VI. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any rating factors. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. HUD will notify applicants by facsimile or by mail, return receipt requested. You must submit clarifications or corrections of technical deficiencies in accordance with the information provided by HUD within 14 calendar days of the date of receipt of the HUD notification. If your deficiency is not corrected within this time period, HUD will reject your application as incomplete, and it will not be considered for funding.

VII. Environmental Requirements

Environmental Impact. A Finding of No Significant Impact with respect to the environment has been made in accordance with HUD regulations at 24 CFR part 50 that implement section 102(2)(C) of the National Environmental Policy Act of 1969. The Finding of No Significant Impact is available for public inspection between 7:30a.m. and 5:30 p.m. weekdays in the Office of the Rules Docket Clerk in Room 10276 of the HUD Headquarters Building.

Environmental Review. Certain eligible activities under this NOFA are categorically excluded from review under the National Environmental Policy Act of 1969 (42 U.S.C. 4321) and are not subject to review under related laws, in accordance with 24 CFR 50.19 (b)(1), (b)(3), (b)(12), or (b)(14). Selection for award does not constitute approval of any proposed sites. If the TCUP application proposes the use of grant funds to assist any non-exempt activities, following selection for award, HUD will perform an environmental review of activities proposed for assistance under the program, in accordance with 24 CFR part 50. The results of the environmental review may require that your proposed activities be modified or that your proposed sites be rejected. You are particularly cautioned not to undertake or commit funds for acquisition or development of proposed properties prior to HUD approval of specific properties or areas. Your application constitutes an assurance that your institution will assist HUD to comply with part 50; will supply HUD with all available and relevant information to perform an environmental review for each proposed property; will carry out mitigating measures required by HUD or select alternate property; and will not acquire, rehabilitate, convert, lease, repair, or construct property and not commit or expend HUD or local funds for these program activities with respect to any eligible property until HUD approval of the property is received. In supplying HUD with environmental information, you should use the same guidance as provided in the HUD Handbook entitled “Field Environmental Review Processing for HUD Colonias Initiative Grants” issued January 27, 1999.

VIII. Other Matters

(A) Executive Order 13132, Federalism. Executive Order 13132 (entitled “Federalism”) prohibits, to the extent practicable and permitted by law, an agency from promulgating policies that have federalism implications and either impose substantial direct compliance costs on State and local governments and are not required by statute, or preempt State law, unless the relevant requirements of section 6 of the Executive Order are met. This NOFA does not have federalism implications and does not impose substantial direct compliance costs on State and local governments or preempt State law within the meaning of the Executive Order.

(B) Prohibition Against Lobbying Activities. You, the applicant, are subject to the provisions of section 319 of the Department of Interior and Related Agencies Appropriation Act for Fiscal Year 1991, 31 U.S.C. 1352 (the Byrd Amendment), which prohibits recipients of Federal contracts, grants, or loans from using appropriated funds for lobbying the executive or legislative branches of the Federal Government in connection with a specific contract, grant, or loan. You are required to certify, using the certification found at Appendix A to 24 CFR part 87, that you will not, and have not, used appropriated funds for any prohibited lobbying activities. In addition, you must disclose, using Standard Form LLL, “Disclosure of Lobbying Activities,” any funds, other than Federally appropriated funds, that will be or have been used to influence Federal employees, members of Congress, and congressional staff regarding specific grants or contracts. Tribes and tribally designated housing entities (TDHEs) established by an Indian tribe as a result of the exercise of the tribe's sovereign power are excluded from coverage of the Byrd Amendment, but tribes and TDHEs established under State law are not excluded from the statute's coverage.

(C) Section 102 of the HUD Reform Act; Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this SuperNOFA as follows:

(1) Documentation and public access requirements. HUD will ensure that documentation and other information regarding each application submitted pursuant to this SuperNOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (HUD Form 2880) submitted in connection with this SuperNOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register on at least a quarterly basis to notify the public of all decisions made by the Department to provide:

(i) Assistance subject to section 102(a) of the HUD Reform Act; or

(ii) Assistance that is provided through grants or cooperative agreements on a discretionary (non-formula, non-demand) basis, but that is not provided on the basis of a competition.

(D) Section 103 HUD Reform Act. HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

(F) Catalogue of Federal Domestic Assistance.

The Catalogue of Federal Domestic Assistance number is: 14.519.

IX. Authority

This program was approved by the Congress under the CDBG appropriation for Fiscal Year 2001, as part of the FY 2001 HUD Appropriations Act (Public Law 106-377). TCUP is being implemented through this NOFA and the policies governing its operation are contained herein.

Dated: May 7, 2001.
Mel Martinez,
Secretary.

Appendix A

The standard forms, which follow, are required for your TCUP application.

Appendix B

The non-standard forms, which follow, are required for your TCUP application.

BILLING CODE 4210-62-P

[FR Doc. 01-11957 Filed 5-10-01; 8:45 am]

BILLING CODE 4210-62-C